DEPARTMENT OF HEALTH AND HUMAN SERVICES

Centers for Disease Control and Prevention

[Program Announcement 01171]

Expansion of HIV/AIDS Prevention Activities in the Republic of Kenya by Promoting the Establishment of “Free-Standing” or “Stand-Alone” Sites Which Deliver Volunteer Counseling and Testing Services; Notice of Availability of Funds

A. Purpose

The Centers for Disease Control and Prevention (CDC) announces the availability of fiscal year (FY)2001 funds for a cooperative agreement program for the expansion of HIV/AIDS Prevention Activities in the Republic of Kenya.

The purpose of the program is to Promote the establishment of “free-standing” or “stand-alone” sites which deliver voluntary counseling and testing (VCT) services to the Kenyan public in support of the Kenyan CDC Country Plan for HIV/AIDS prevention.

B. Eligible Applicants

Applications may be submitted by public and private nonprofit organizations and by governments and their agencies and international organizations with a minimum of 2 years of experience in managing funds and delivering volunteer counseling and testing(VCT)service in developing countries in Africa.

Note: Title 2 of the United States Code, Chapter 26, Section 1611 states that an organization described in section 501(c)(4) of the Internal Revenue Code 1986 that engages in lobbying activities is not eligible to receive Federal funds constituting an award, grant, cooperative agreement, contract, loan, or any other form.

C. Availability of Funds

Approximately $1.0 million is available in FY 2001, to fund one award. A similar amount will be available each year during the period of the project. It is expected that the award will begin on or about September 30, 2001 and will be made for a 12-month budget period with a project period of up to five years. Funding estimates may change.

Continuation awards within an approved project period will be made on the basis of satisfactory progress as evidenced by required reports and the availability of funds.

Use of Funds

All services provided under this announcement will be free to the individuals obtaining the service. The grantee will not collect any fee(s) in association with the services provided.

Antiretroviral Drugs

Funds received from this announcement will not be used for the purchase of antiretroviral drugs for treatment of established HIV infection (with the exception nevirapine in PMTCT cases and with prior written approval), occupational exposures, and non-occupational exposures and will not be used for the purchase of machines and reagents to conduct the necessary laboratory monitoring for patient care.

Applicants may contract with other organizations under these cooperative agreements, however, applicants must perform a substantial portion of the activities (including program management and operations and delivery of prevention services for which funds are requested).

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

All requests for funds, including the budget contained in the application, shall be stated in U.S. dollars. Once an award is made, the Department of Health and Human Services (DHHS) will not compensate foreign grantees for currency exchange fluctuations through the issuance of supplemental awards.

Needle Exchange

No funds appropriated under this Act shall be used to carry out any program of distributing sterile needles or syringes for the hypodermic injection of any illegal drug. Funds received from this announcement may not be used for the following: The purchase of machines and reagents to conduct laboratory monitoring for patient care

D. Program Requirements

In conducting activities to achieve the purpose of this program, the recipient will be responsible for the activities under “Recipient Activities”, and CDC will be responsible for the activities listed under “CDC Activities”

Recipient Activities

1. Developing and establishing stand-alone VCT sites in key urban areas of Kenya.

a. Identify key urban locations and sites in Kenya appropriate for stand-alone VCT sites, and develop a phased plan for establishment of up to twenty (20) sites by the end of three years.

b. Identify and select local partners (such as but not limited to Non-Government Organizations, NGOs) with the capacity to manage and deliver VCT services at stand-alone sites. (For Example: This may involve selecting one national organization or several regional or local organizations. If necessary, it may involve assisting in the formation of a Kenyan NGO with the specific mandate to provide VCT services, similar to the Ugandan NGO, the AIDS Information Center, which was set up by a consortium of Ugandan and international organizations.)

c. Develop and implement a specific model for service delivery to be uniformly implemented at all sites. This should include hours of operation during evening and weekend hours. Provision of integrated reproductive and HIV related health services at these sites, such as family planning services, the detection and treatment of other sexually transmitted diseases, and TB education and screening is desirable. In addition, on-going services for VCT clients, such as “Post-Test Clubs” and referral networks for care, should be included in the proposal.

d. Free services should be considered for proposal, however, a minimal fee may be charged with fees generated being utilized to further market VCT services.

e. Develop and implement a plan for the recruitment, employment, training, and supervision of staff to provide VCT services at free-standing sites, including both counseling and testing services to be performed on-site.

f. Ensure that all sites are appropriately advertised

2. Assist other NGOs wishing to provide VCT as part of their AIDS activities.

a. Solicit proposals from NGOs who wish to provide VCT services as part of their AIDS prevention and/or care efforts, including such groups as KICOSHEP, KAPC, church and faith-based organizations, and others.

b. Provide funding through “contracts” to these organizations. All contracts over $15,000 will require approval by in-country CDC staff.

c. Provide on-going technical assistance to such groups.

d. Foster a network of VCT sites for continuing education, sharing of resident technical expertise and lessons learned.

3. Provide HIV test kits and other supplies needed to conduct on-site, confirmed, rapid HIV testing for VCT purposes.

a. Procure HIV test kits and other supplies as needed. Selection of test kits will be made on the basis of CDC recommendations and will require test kits approved for use in Kenya.

b. Develop a system for the distribution and re-stocking of HIV test kits and consumables.

c. Develop a system for additional testing of samples with discordant results, and for quality assurance testing.

4. Develop mobile VCT services for sites not appropriate for a permanent VCT center.

a. Propose a strategy and specific plan for mobile VCT services in rural areas and other locations which do not justify a full-time VCT center.

b. Implement mobile VCT services in year two. This activity may require the procurement of vans or mobile-home type vehicles which would have room for a small laboratory and at least two counseling rooms.

5. Provide on-going support, monitoring, supervision, and evaluation of these sites

a. Ensure that all VCT sites are operating in accordance with the Kenya National VCT guidelines and with all applicable local and international standards.

b. Ensure that all funds disbursed for VCT activities are properly used and accounted for, and train staff at VCT sites in proper accounting procedures.

c. Develop systems for routine monitoring and supervision of VCT services, including a system for computerized record keeping at all sites, and central level analysis and reporting.

d. Propose, develop and implement a methodology for the evaluation of stand-alone VCT sites in Kenya.

CDC Activities

1. CDC will collaborate with the recipient on designing and implementing the activities listed above, including but not limited to providing technical assistance to develop and implement program activities, quality assurances, data management, statistical analysis and presentations of program methods and findings.

2. Monitor project and budget performance.

3. Approve the selection of key personnel to be involved in the activities preformed under this cooperative agreement.

4. Rapid HIV Test kits may be provided in limited amounts for the purpose of this activity.

E. Application Content

Use the information in the Program Requirements, Other Requirements, and Evaluation Criteria sections to develop the application content. Your application will be evaluated on the criteria listed, so it is important to follow them in laying out your program plan. The narrative should be no more than 25 double-spaced pages, printed on one side, with one inch margins, and 12 point font. All pages should be numbered and indexed. The narrative should consist of, at a minimum, a Plan, Objectives, Methods, Evaluation and Budget.

F. Submission and Deadline

Submit the original and two copies of PHS 5161-1 (OMB Number 0920-0428). Forms are available in the application kit and at the following Internet address: www.cdc.gov/od/pgo/forminfo.htm.

On or before August 17, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated postmark or obtain a legibly dated receipt from a commercial carrier. Private metered postmarks shall not be acceptable as proof of timely mailing.)

Late: Applications which do not meet the criteria in 1. or 2. above will be returned to the applicant.

G. Evaluation Criteria

Application

Each application will be evaluated individually against the following criteria by an independent review group appointed by CDC.

1. Understanding of the Problem (15 percent)

The extent to which the applicant's proposal demonstrates a clear and concise understanding of the AIDS epidemic in Kenya and the role of VCT as a prevention intervention and as an entry point to care.

2. Technical and Programmatic Approach (30 percent)

The extent to which the applicant's proposal demonstrates an understanding of how to develop, promote, implement, monitor, and evaluate VCT services offered outside of traditional medical settings.

3. Ability to Carry Out the Project (20 percent)

The extent to which the applicant documents demonstrated capability to achieve the purpose of the project.

4. Personnel (20 percent)

The extent to which professional personnel involved in this project are qualified, including evidence of experience in working with HIV/AIDS and specifically with VCT in stand-alone settings.

5. Plans for Administration and Management of the Project (15 percent)

The extent to which the plan, objectives, and methods described meet the program objectives and the adequacy of described evaluation methodology meets the plans of the project.

6. Budget (Not scored, but evaluated)

The extent to which the itemized budget for conducting the project is reasonable and well justified. The percentage of the budget going for direct VCT services will be assessed and considered. The applicant should include an analysis in the budget of the cost per client served.

7. Human Subjects (Not Scored)

The extent to which the application adequately addresses the requirements of 45 CFR 46 for the protection of human subjects. (Not scored; however, an application can be disapproved if the research risks are sufficiently serious and protection against risks is so inadequate as to make the entire application unacceptable.)

H. Other Requirements

Technical Reporting Requirements

Provide CDC with original plus two copies of

1. Semi-annual progress reports;

2. Financial status report, no more than 90 days after the end of each year's budget period; and

3. Final financial and performance reports, no more than 90 days after the end of the total five year project period.

4. Awardee is required to obtain annual program specific audit of these CDC funds by a US-based audit firm with international branches and current licensure/authority in country, and in accordance with International Accounting Standards or equivalent standard(s) approved in writing by CDC.

A fiscal Recipient Capability Assessment may be required with the potential awardee, pre or post award, in order to review their business management and fiscal capabilities regarding their handling of U.S. Federal funds.

Send all reports to the Grants Management Specialist identified in the “Where to Obtain Additional Information” section of this announcement.

The following additional requirements are applicable to this program. For a complete description of each, see Attachment I of the announcement.

AR-1 Human Subjects Requirements

AR-4 HIV/AIDS Confidentiality Provisions

AR-6 Patient Care

AR-12 Lobbying Restrictions

AR-14 Accounting System Requirements

I. Authority and Catalog of Federal Domestic Assistance Number

This program is authorized under section 307 of the Public Health Service Act, [42 U.S.C. 242I], as amended. The Catalog of Federal Domestic Assistance number is 93.941.

J. Where To Obtain Additional Information

This and other CDC announcements can be found on the CDC home page Internet address— http://www.cdc.gov Click on “Funding” then “Grants and Cooperative Agreements.” To receive additional written information and to request an application kit, call 1-888-GRANTS4 (1-888-472-6874). You will be asked to leave your name and address and will be instructed to identify the Program Announcement number of interest.

If you have questions after reviewing the contents of all the documents, business management technical assistance may be obtained from:Dorimar Rosado, Grants Management Specialist, Grants Management Branch, Procurement and Grants Office, Centers for Disease Control and Prevention, 2920 Brandywine Road, Room 3000, Atlanta, GA 30341-4146, Telephone number: (770) 488-2782, Email address: dpr7@cdc.gov.

For program technical assistance, contact: Elizabeth Marum, Ph.D., Technical Advisor in HIV/AIDS, Center for Disease Control and Prevention (CDC), Nairobi, Kenya, Telephone: 254-2-713-008 (office),254-072-727-933 (mobile), 254-2-714-745 (fax), Email: emarum@kisian.mimcom.net, Local mailing address: P.O. Box 30137, Nairobi, Kenya, U.S. Mailing address: Unit 64112,APO AE 09831-4112.

Dated: July 16, 2001.
John L. Williams,
Director, Procurement and Grants Office, Centers for Disease Control and Prevention (CDC).

[FR Doc. 01-18156 Filed 7-19-01; 8:45 am]

BILLING CODE 4163-18-P